POSTAL SERVICE

United States Postal Service Board of Governors; Sunshine Act Meeting

Board Votes To Close March 31, 2005, Meeting

At its teleconference meeting on March 25, 2005, the Board of Governors of the United States Postal Service voted unanimously to close to public observation its meeting scheduled for March 31, 2005, in Washington, DC, via teleconference. The Board determined that prior public notice was not possible.

Item Considered: 1. Rate Case Filing.

General Counsel Certification: The General Counsel of the United States Postal Service has certified that the meeting was properly closed under the Government in the Sunshine Act.

CONTACT FOR FURTHER INFORMATION: Requests for information about the meeting should be addressed to the Secretary of the Board, William T. Johnstone, at (202) 268-4800.

William T. Johnstone,
Secretary.

[FR Doc. 05-6738 Filed 4-31-05; 4:42 pm]

BILLING CODE 7710-12-M